COMMODITY FUTURES TRADING COMMISSION

Agency Information Collection Activities Under OMB Review

Agency: Commodity Futures Trading Commission.

Action: Notice.

SUMMARY: In compliance with the Paperwork Reduction Act (44 U.S.C. 3501 et seq.), this notice announces that the Information Collection Request (ICR) abstracted below has been forwarded to the Office of Management and Budget (OMB) for review and comment. The ICR describes the nature of the information collection and its expected costs and burden; it includes the actual data collection instruments if any.

DATES: Comments must be submitted on or before February 28, 2013.

FOR FURTHER INFORMATION OR A COPY CONTACT: Sonda R. Owens at CFTC, (202) 418-5182; FAX: (202) 418-5414; email: sowens@cftc.gov and refer to OMB Control No. 3038-0031.

SUPPLEMENTARY INFORMATION:

Title: Procurement Contracts, OMB Control No. 3038-0031. This is a request for extension of a currently approved information collection.

Abstract: This information collection consists of procurement activities relating to solicitations, amendments to solicitations, requests for quotations, construction contracts, awards of contracts, performance bonds, and payment information for individuals (vendors) or contractors engaged in providing supplies or services.

An agency may not conduct or sponsor, and a person is not required to respond to, a collection of information unless it displays a currently valid OMB control number. The OMB control numbers for the CFTC's regulations were published on December 30, 1981. See 46 FR 63035 (Dec. 30, 1981). The Federal Register notice with a 60-day comment period soliciting comments on this collection of information was published on November 21, 2012 (77 FR 69806).

Burden statement: The respondent burden for this collection is estimated to average 1 hour per response. This estimate includes the time needed to review instructions; develop, acquire, install, and utilize technology and systems for the purposes of collecting, validating, and verifying information, processing and maintaining information and disclosing and providing information; adjust the existing ways to comply with any previously applicable instructions and requirements; train personnel to be able to respond to a collection of information; and transmit or otherwise disclose the information. The numbers contained in this justification differ from those in the 60-day notice because of a revised estimate of the number of respondents.

Respondents/Affected Entities: 214.

Estimated number of responses: 214.

Estimated total annual burden on respondents: 548 hours.

Frequency of collection: annually.

Send comments regarding the burden estimated or any other aspect of the information collection, including suggestions for reducing the burden, to the addresses listed below. Please refer to OMB Control No. 3038-0031 in any correspondence.

Sonda R. Owens, Commodity Futures Trading Commission, 1155 21st Street NW., Washington, DC 20581 and Office of Information and Regulatory Affairs, Office of Management and Budget, Attention: Desk Office for CFTC, 725 17th Street, Washington, DC 20503.

Comments may also be submitted by any of the following methods:

The agency's Web site at http://comments.cftc.gov. Follow the instructions for submitting comments through the Web site.

Mail: Secretary of the Commission, Commodity Futures Trading Commission, Three Lafayette Centre, 1155 21st Street, NW., Washington, DC 20581. Hand Delivery/Courier: Same as mail above.

Federal eRulemaking Portal: http://www.regulations.gov. Follow the instructions for submitting comments.

Please submit your comments using only one method and identity that it is for the renewal of this Federal Register notice.

All comments must be submitted in English, or if not, accompanied by an English translation. Comments will be posted as received to www.cftc.gov. You should submit only information that you wish to make available publicly. If you wish the Commission to consider information that you believe is exempt from disclosure under the Freedom of Information Act, a petition for confidential treatment of the exempt information may be submitted according to the procedures established in Section 145.9 of the Commission's regulations.

Issued this 23rd day of January, 2013, by the Commission.
Stacy D. Yochum,
Counsel to the Executive Director.

[FR Doc. 2013-01724 Filed 1-28-13; 8:45 am]

BILLING CODE 6351-01-P